DEPARTMENT OF VETERANS AFFAIRS

Advisory Committee on Cemeteries and Memorials; Notice of Availability of Report

In compliance with section 13 of Public Law 92-463 (Federal Advisory Committee Act), notice is hereby given that the Report of the Department of Veterans Affairs Advisory Committee on Cemeteries and Memorials for Fiscal Years 2001-2002 has been issued. The Report summarizes activities and recommendations of the Committee on matters relative to programs, policies, and goals of the National Cemetery Administration. It is available for public inspection at two locations: Mr. Richard Yarnall, Federal Advisory Committee Desk, Library of Congress, Anglo-American Acquisition Division, Government Documents Section, Room LM-B42, 101 Independence Avenue, SE., Washington, DC 20540-4172; and, Department of Veterans Affairs, National Cemetery Administration, Suite 400, 810 Vermont Avenue, NW., Washington, DC 20420.

Dated: August 1, 2003.
By Direction of the Secretary
E. Phillip Riggin,
Committee Management Officer.

[FR Doc. 03-20734 Filed 8-13-03; 8:45 am]

BILLING CODE 8320-01-M